DEPARTMENT OF THE INTERIOR

National Park Service

[NPS-WASO-D-COS-POL-20605; PPWODIREP0;PPMPSPD1Y.YM0000]

Notice of June 2-3, 2016, Meeting of the National Park System Advisory Board

AGENCY: National Park Service, Interior.

ACTION: Meeting notice.

SUMMARY: Notice is hereby given in accordance with the Federal Advisory Committee Act, 5 U.S.C. Appendix, and Parts 62 and 65 of title 36 of the Code of Federal Regulations, and in furtherance of the National Trails System Act, 16 U.S.C. Section 1244(b)(3), that the National Park System Advisory Board will meet June 2-3, 2016, in Anchorage, Alaska. The agenda will include the review of proposed actions regarding the National Historic Landmarks Program and the National Natural Landmarks Program. The Board also will consider a proposed extension to the Lewis and Clark National Historic Trail, and may consider proposed additions to the Oregon, California, Mormon Pioneer and Pony Express National Historic Trails. Interested parties are encouraged to submit written comments and recommendations that will be presented to the Board. Interested parties also may attend the board meeting and upon request may address the Board concerning an area's national significance.

DATES: (a) Written comments regarding any proposed National Historic Landmarks matter or National Natural Landmarks matter listed in this notice will be accepted by the National Park Service until May 23, 2016. (b) The Board will meet on June 2-3, 2016.

ADDRESSES: The meeting will be held in the Boyd Evison Conference Room 309 of the National Park Service Alaska Regional Office, 240 West 5th Avenue, Anchorage, Alaska 99501, telephone (907) 644-3510.

Agenda: On the morning of June 2, the Board will convene its business meeting at 9:00 a.m., Alaska Daylight Time, and adjourn for the day at 4:30 p.m. On June 3, the Board will reconvene at 9:00 a.m., and adjourn at 2:30 p.m. During the course of the two days, the Board may be addressed by National Park Service Director Jonathan Jarvis and briefed by other National Park Service officials regarding education, philanthropy, NPS urban initiatives, science, and the National Park Service Centennial; deliberate and make recommendations concerning National Historic Landmarks Program, National Natural Landmarks Program, and National Historic Trails Program proposals; and receive status briefings on matters pending before committees of the Board.

FOR FURTHER INFORMATION CONTACT: (a) For information concerning the National Park System Advisory Board or to request to address the Board, contact Shirley Sears, Office of Policy, National Park Service, MC 0004-Policy, 1849 C Street NW., Washington, DC 20240, telephone (202) 354-3955, email Shirley_Sears@nps.gov. (b) To submit a written statement specific to, or request information about, any National Historic Landmarks matter listed below, or for information about the National Historic Landmarks Program or National Historic Landmarks designation process and the effects of designation, contact J. Paul Loether, Chief, National Register of Historic Places and National Historic Landmarks Program, National Park Service, 1849 C Street NW. (2280), Washington, DC 20240, email Paul_Loether@nps.gov. (c) To submit a written statement specific to, or request information about the proposed extension to the Lewis and Clark National Historic Trail listed below, or for information about the National Historic Trails Program or the National Trails System, contact Tokey Boswell, Acting Chief of Planning, Midwest Regional Office, National Park Service, 601 Riverfront Drive, Omaha, NE 68102, telephone (402) 661-1534, email Tokey_Boswell@nps.gov. (d) To submit a written statement specific to, or request information about the proposed additions to the Oregon, California, Mormon Pioneer and Pony Express National Historic Trails listed below, or for information about the National Historic Trails Program or the National Trails System, contact Aaron Mahr Yáñez, Superintendent, National Trails Intermountain Region, National Park Service, P.O. Box 728, Santa Fe, NM 87504, telephone (505) 988-6736, email Aaron_Mahr@nps.gov. (e) to submit a written statement specific to, or request information about, any National Natural Landmarks matter listed below, or for information about the National Natural Landmarks Program or National Natural Landmarks designation process and the effects of designation, contact Heather Eggleston, Acting Program Manager, National Natural Landmarks Program, National Park Service, 12795 W. Alameda Parkway, Lakewood, Colorado 80228, email Heather_Eggleston@nps.gov.

SUPPLEMENTARY INFORMATION: Matters concerning the National Historic Landmarks Program, National Historic Trails Program, and National Natural Landmarks Program will be considered by the Board as follows:

A. National Historic Landmarks (NHL) Program

NHL Program matters will be considered at the morning session of the business meeting on June 2, during which the Board may consider the following:

Nominations for New NHL Designations

Connecticut

• James Merrill House, Stonington, CT

• The Steward's House, Foreign Mission School, Cornwall, CT

Florida

• Norman Film Manufacturing Company, Jacksonville, FL

Indiana

• Athenaeum (Das Deutsche Haus), Indianapolis, IN

Michigan

• Gaukler Pointe (Edsel and Eleanor Ford House), Macomb County, MI

Mississippi

• Mississippi State Capitol, Jackson, MS

New York

• St. Bartholomew's Church and Community House, New York, NY

Ohio

• Zoar Historic District, Zoar, OH

Wisconsin

• Man Mound, Sauk County, WI

Wyoming

• Ames Monument, Albany County, WY

Proposed Amendments to Existing Designations

Ohio

• James A. Garfield Home, Mentor, OH (updated documentation)

• William Howard Taft Home, Cincinnati, OH (updated documentation and name change)

B. National Historic Trails (NHT) Program

NHT Program matters will be considered at the morning session of the business meeting on June 2, during which the Board may consider the following:

Proposed National Historic Trail Additions

• Proposed Lewis and Clark National Historic Trail Extension (National Historic Significance Recommendation)

• Proposed additions to the Oregon, California, Mormon Pioneer and Pony Express National Historic Trails, CA, CO, ID, IA, KS, MO, NE, NV, OK, OR, UT, WA, and WY (National Historic Significance Recommendation)

C. National Natural Landmarks (NNL) Program

NNL Program matters will be considered at the afternoon session of the business meeting on June 2, during which the Board may consider the following:

Nominations for New NNL Designations

Arizona

• Silver Bell Mountains Desert Complex, Pima County, AZ

Colorado

• West Bijou Site, Arapahoe and Elbert Counties, CO

The board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, email address, or other personal identifying information in your comment, you should be aware that your entire comment—including your personal identifying information—may be made publicly available at any time. While you may ask us in your comment to withhold your personal identifying information from public review, we cannot guarantee that we will be able to do so.

Draft minutes of the meeting will be available for public inspection about 12 weeks after the meeting in the 7th floor conference room at 1201 I Street NW., Washington, DC.

Dated: March 18, 2016.
Alma Ripps,
Chief, Office of Policy.

[FR Doc. 2016-06631 Filed 3-23-16; 8:45 am]

BILLING CODE 4310-EE-P